DEPARTMENT OF AGRICULTURE

Commodity Credit Corporation

Wetlands Reserve Enhancement Program

AGENCY: Commodity Credit Corporation and Natural Resources Conservation Service, Department of Agriculture.

ACTION: Notice of availability of program funds.

SUMMARY: The Natural Resources Conservation Service (NRCS), on behalf of the Commodity Credit Corporation (CCC), announces that a minimum of $25 million in financial assistance will be made available in fiscal year (FY) 2010 for the Wetlands Reserve Enhancement Program (WREP) throughout the United States to eligible landowners.

Under WREP, NRCS enters into agreements with eligible partners to help enhance conservation outcomes on wetlands and adjacent lands. WREP targets and leverages resources to carry out high priority wetland protection, restoration, and enhancement activities and improve wildlife habitat through agreements with States (including a political subdivision or agency of a State), nongovernmental organizations, and Indian tribes. This notice is to solicit proposals from potential partners who seek to enter into agreements with NRCS under this authority and to inform landowners of the potential availability of program funds through approved projects.

DATES: Effective Date: The notice of request is effective April 9, 2010.

Eligible partners may submit proposals to the NRCS State office by mail or via courier.

• By mail: Proposals must be postmarked by May 24, 2010.

• By courier or hand delivery: Proposals must be delivered by May 24, 2010.

ADDRESSES: Written proposals for projects geographically located within a State should be sent to the appropriate NRCS State Conservationist, whose names and addresses are identified as an attachment to this notice. Written proposals for multi-State projects are to be sent to the NRCS State Conservationist of the State in which the majority of the proposed project area resides. All proposals hand-delivered by courier will be accepted between 9 a.m. and 4 p.m., local time, Monday through Friday, except Federal holidays.

Note: Proposals submitted via fax, e-mail, through the grants.gov Web site, or after the deadline date listed in this notice will not be considered.

FOR FURTHER INFORMATION CONTACT: Garry Lee, Acting Director, Easement Programs Division, Department of Agriculture, Natural Resources Conservation Service, 1400 Independence Avenue, SW., Room 6819 South Building, Washington, DC 20250, Telephone: (202) 720-0907 or Fax: (202) 720-9689.

Persons with disabilities who require alternative means for communication (Braille, large print, audio tape, etc.) should contact the USDA TARGET Center at: (202) 720-2600 (voice and TDD).

SUPPLEMENTARY INFORMATION:

Background

Section 2206 of the Food, Conservation, and Energy Act of 2008 (2008 Act) establishes the WREP by amending section 1237A(h) of the Food Security Act of 1985 (16 U.S.C. 3837a(h)). The Secretary of Agriculture delegated authority for WREP to the Chief of NRCS, who is Vice President of the CCC.

Availability of Funding

Effective upon publication of this notice, NRCS, on behalf of CCC, announces that a minimum of $25 million of financial assistance funds is available to accept high quality proposals under WREP in FY 2010. Under WREP, NRCS enters into agreements with eligible State and local governments, Indian tribes, and nongovernmental organizations. The reserve rights pilot of WREP (7 CFR 1467.9(b)) is implemented separately, and funds for the pilot are made available through the normal Wetlands Reserve Program (WRP) allocation process. NRCS will announce, at the State level, when a pilot area has been selected for the reserved rights pilot and will provide enrollment information to landowners at that time.

Overview

WREP is a voluntary conservation program which is a component of WRP. WREP leverages resources of eligible partners to provide financial and technical assistance to eligible landowners to protect, restore, and enhance high priority wetlands and improve wildlife habitat. WREP partners are required to contribute a financial match of at least 5 percent of the acquisition or restoration costs toward the project. Proposals which include additional partner resources will be given higher priority consideration in the selection process. Contributions provided by the partners to achieve additional points can be in the form of technical or financial assistance for the protection, restoration, and enhancement of the wetland. They can also be used for management and monitoring activities. These contributions can be in-kind services or cash.

WREP financial and technical assistance is delivered to eligible landowners in approved project areas through easement acquisition, conservation program contracts, cooperative agreements, contribution agreements, or Federal contracts. Restoration may be achieved through payments to other parties who conduct the restoration activities.

Only States and local units of government, Indian tribes, and nongovernmental organizations are eligible to submit a proposal and enter into agreements with NRCS. A nongovernmental organization is an organization described in section 501(c)(3) of the Internal Revenue Code of 1986. Individual landowners may not submit WREP proposals through this submission process. However, once a WREP project has been approved and announced, eligible landowners may apply for WREP through their local NRCS office. As part of the agreement, approved partners may also help facilitate the submission of landowner applications, provide additional technical or financial assistance to landowners, and provide other resources as defined in the agreement.

Written proposals are to be submitted by eligible partners, and project evaluation will be based upon a competitive process and the criteria established in this notice. Potential partners may submit WREP proposals for an individual landowner project, watershed, or geographic area to the appropriate State Conservationist. Once NRCS selects a partner's proposal, landowners within the selected project area may submit an application directly to NRCS for participation in WRP. Individual landowner applications will be evaluated and ranked among other applicants in the watershed or geographic project area, when applicable, to ensure that the properties selected for funding will achieve project objectives.

Wetland restoration and enhancement actions will be designed to maximize wildlife habitat values and water quality according to the WRP regulation, 7 CFR part 1467, and NRCS standards and specifications. Proposals must conform to the WRP guidelines for restoration and management of lands subject to a WRP easement.

Benefits to the partners in WREP agreements include:

• Involvement in wetland restorations in high priority areas;

• Ability to cost-share restoration or enhancement components beyond those required by NRCS;

• Ability to participate in management or monitoring of selected project locations; and

• Opportunity to utilize innovative restoration methods and practices.

Proposal Requirements

For consideration, the proposal must be in the following format and contain the information set forth below:

Proposal Format: The basic format for the WREP proposal is a narrative written response to the information requested in this notice. There are no forms required or associated with the WREP proposal submission process; however, the proposal must include all of the following:

(1) Proposal Cover Sheet and Summary: The first few pages of the proposal must include:

(a) Project Title.

(b) Project Director/Manager name, telephone, and email address.

(c) Name of lead partner submitting proposal and other collaborating partners.

(d) Mailing address and telephone numbers for lead partner.

(e) Short general description/summary of project.

(f) Potential acres to be enrolled in the project area.

(g) The geographic location including State(s), county(s), and congressional district(s). Include a general location map.

(h) Proposed project start and end dates (not to exceed a period of 5 years).

(i) Total budget for the project including the amount of WREP financial assistance being requested for project.

(2) Project Natural Resource Objectives and Actions: The proposal must:

(a) Identify and provide detail about the natural resource concern(s) to be addressed and how the proposal's objectives will address those concerns. Objectives should be specific, measurable, achievable, results-oriented, and include a timeline for completion.

(b) For each objective, identify the actions to be completed to achieve that objective and address the identified natural resource concern. Specify which actions are to be addressed through this project using WREP assistance, and which are being addressed through alternate non-Federal funding sources or other resources provided.

(c) Identify the total acres that require wetland protection, restoration, and enhancement.

(3) Detailed Proposal Criteria: Information provided in the proposal must include:

(a) A description of the partner(s) history of working with landowners to address resource issues.

(b) A description of the watershed characteristics within the designated focus area covered by the proposal including a detailed watershed map which indicates the project location. The description should include information related to land use types, vegetation, soils, hydrology, potential sources of water quality impairments, occurrences of at-risk species, proximity to other protected areas, and a summary of resource concerns.

(c) A description of the partner(s) and the roles, responsibilities, and capabilities of the partner(s). Proposals which include resources from partners other than the lead partner must include a letter or other documentation confirming the commitment of resources.

(d) A description of the project duration, plan of action, and project implementation schedule. Project proposals cannot exceed 5 years.

(e) A description of the financial assistance resources that are requested through WREP, and the non-Federal resources provided by the partner(s) that will be leveraged by the Federal contribution. WREP partners are required to contribute a financial match of at least 5 percent of the acquisition or restoration costs toward the project.

(f) A description of non-Federal resources that will be available for implementation of the proposal. Proposals which include additional non-Federal resources will be given higher consideration in the selection process. The partner needs to state clearly how they intend to leverage Federal funds along with partner resources. Landowner contributions in the implementation of agreed-to wetland restoration and enhancement practices may not be considered any part of a match from the potential partner for purposes of WREP. Partners will also be required to submit a plan for monitoring, evaluating, and reporting progress made toward achieving the objectives of the agreement.

(g) An estimate of the percentage of potential landowners, or estimate of the percentage of acres likely to be enrolled within the project area, compared to the total number of potential landowners or acres located in the project area. A statement on how the partner will encourage participation to guarantee success of the project. It is not necessary for a target area to involve multiple landowners to be selected. Projects will be evaluated based on the ecological merits of the proposal and contributions by the partners.

(h) A statement describing how the partner will provide outreach, especially to encourage participation by Indian tribes, beginning farmers or ranchers, socially disadvantaged farmers or ranchers, and limited resource farmers or ranchers.

(i) A description of the wetland protection, restoration, and enhancement activities to be implemented during the project timeframe, and the general sequence of implementation of the project. Activities may include those efforts undertaken by the partner and those that the partner requests NRCS to address through financial support.

(j) A description of the amount of funds needed annually for easement acquisition and wetland restoration and enhancement activities.

Submitting Proposals

Potential partners must submit a complete proposal to the appropriate NRCS State Conservationist by the date and time listed at the beginning of this notice addressing all items listed in the “Proposal Requirements” section of this notice. More than one proposal may be submitted. Potential partners should recognize that the proposal is the only document NRCS will use in the evaluation process. The proposal must include sufficient detail to allow NRCS to understand the partner's priority resource concerns, objectives, and expected outcomes. If a project is multi-State in scope, the proposal should be sent to the State Conservationist of the State in which the majority of the project area resides. Incomplete proposals and those that do not meet the requirements set forth in this notice will not be considered, and notification of elimination will be mailed to the applicant.

The potential partner must submit five copies of the proposal, typewritten or printed on 8½″ x 11″ white paper. One additional copy of the proposal must be in electronic format, such as Microsoft Word or PDF on one CD-ROM. If submitting more than one project proposal, submit a separate document for each project. The entire project proposal must not to exceed 15 pages in length including summary, responses to the information requested for the Project Natural Resource Objectives and Actions and Detailed Project Criteria, maps, reference materials, and related reports.

State Conservationists may provide guidance to potential partners regarding resource concerns that may be addressed in the proposed project area, local working group and State Technical Committee natural resource priorities, and approved wetland restoration and enhancement practices and activities the partner should consider.

Note: All WREP proposals submitted to the State Conservationist become the property of NRCS for use in the administration of the program, may be filed or disposed of by the agency, and will not be returned to the potential partner. Once proposals have been submitted to the agency for review and ranking, there will be no further opportunity to change or re-submit the proposal document.

State Conservationist Review of Proposal

The State Conservationist(s) will review the proposals to address:

(a) Potential duplication of efforts with other projects or existing programs;

(b) Adherence to, and consistency with, program regulation including requirements related to land and landowner eligibility and other program requirements;

(c) Expected benefits for project implementation in their State(s);

(d) Other issues or concerns the State Conservationist is aware that should be considered; and

(e) A general recommendation for support or denial of project approval.

National Ranking Considerations

The appropriate State Conservationist will evaluate proposals using a competitive process and forward recommended proposals to the Chief or designee for review and selection. The Chief or designee will give a higher priority to proposals that:

(a) Have a high potential to achieve wetland restoration;

(b) Have a high potential to significantly improve wildlife habitat;

(c) Significantly leverage non-Federal financial and technical resources and coordinate with other local, State, tribal, or Federal efforts;

(d) Demonstrate the partner's history of working cooperatively with landowners;

(e) Provide innovation in wetland protection, restoration, and enhancement methods and outcome-based performance measures and methods;

(f) Provide evidence that wetland restoration and enhancement activities will be completed within 2 years of easement closing;

(g) Provide for monitoring and evaluation of the effectiveness of the restoration activities;

(h) Provide for matching financial or technical assistance funds to assist landowners with the implementation of the Wetlands Reserve Plan of Operations and associated contracts;

(i) Facilitate the submission of landowner applications; and

(j) Provide for outreach to, and participation of, Indian tribes, beginning farmers or ranchers, socially disadvantaged farmers or ranchers, and limited resource farmers or ranchers within the area covered by the agreement.

Acknowledgement of Submission and Notifications

Partners whose proposals have been selected will receive a letter of official notification. Upon notification of selection, the partner should contact the NRCS State Conservationist listed in the letter to develop the required agreement and other project implementation requirements. Partner submissions of proposals that were not selected will be notified by mail.

Withdrawal of Proposals

Partner proposals may be withdrawn by written notice to the applicable State Conservationist at any time prior to selection.

Partnership Agreements

Upon proposal selection, NRCS will enter an agreement with a partner as the mechanism for partner participation in WREP. At a minimum, the agreement will address:

(a) The role of the partner;

(b) The role of NRCS;

(c) The format and frequency of reports that are required as a condition of the agreement;

(d) Plan of Work and budget to identify other funding sources (if applicable) for financial or technical assistance;

(e) The specified project schedule and timeframe; and

(f) Other requirements deemed necessary by NRCS to achieve purposes of the WRP.

Landowner Application

Landowners must meet the eligibility requirements of WRP, as published in 7 CFR part 1467. Landowners interested in participating may apply for designated WREP funds at their local service center after WREP proposals are selected. In FY 2010, NRCS will make WREP funds available to eligible landowners to enroll land under a permanent easement, a 30-year easement, or a 30-year contract on acreage owned by Indian tribes.

NRCS and the partner may assist landowners in determining whether the application is appropriate for WREP depending on the wetland protection, restoration, and enhancement activities that the applicant seeks to install or perform.

Land Eligibility

The land eligibility criteria for WREP are the same as for WRP and are listed in 7 CFR § 1467. 4.

Waiver Authority

To assist in the implementation of WREP projects, the Chief may waive the applicability of the Adjusted Gross Income Limitation, on a case-by-case basis, in accordance with 7 CFR part 1400. Such waiver requests must be submitted in writing from the program applicant, addressed to the Chief, and submitted through the local NRCS designated conservationist.

Signed this April 5, 2010, in Washington, DC.
Dave White,
Vice President, Commodity Credit Corporation and Chief, Natural Resources Conservation Service.

United States Department of Agriculture

Natural Resources Conservation Service

State Conservationists

AL—William E. Puckett

3381 Skyway Drive

P.O. Box 311

Auburn, Alabama 36830

Phone: 334/887-4500

Fax: 334/887-4552

(V) 9027-4557

(E) william.puckett@al.usda.gov

AK—Robert Jones

800 West Evergreen

Atrium Building, Suite 100

Palmer, Alaska 99645-6539

Phone: 907/761-7760

Fax: 907/761-7790

(V) 9035-2227

(E) robert.jones@ak.nrcs.usda.gov

AZ—David L. McKay

230 North First Avenue

Suite 509

Phoenix, Arizona 85003-1706

Phone: 602/280-8801

Fax: 602/280-8809 or 8805

(V) 9011-8810

(E) david.mckay@az.nrcs.usda.gov

AR—Michael E. Sullivan

Federal Building, Room 3416

700 West Capitol Avenue

Little Rock, Arkansas 72201-3228

Phone: 501/301-3100

Fax: 501/301-3194

(V) 9044-3110

(E) michael.sullivan@ar.usda.gov

CA—Lincoln E. (Ed) Burton

430 G Street

Suite 4164

Davis, California 95616-4164

Phone: 530/792-5600

Fax: 530/792-5790

(V) 9040-5601

(E) ed.burton@ca.usda.gov

CO—Allen Green

655 Parfet Street

Room E200C

Lakewood, Colorado 80215-5521

Phone: 720-544-2810

Fax: 720-544-2965

(V) 9059-2802

(E) allen.green@co.usda.gov

CT—Douglas Zehner

344 Merrow Road, Suite A

Tolland, Connecticut 06084

Phone: 860/871-4011

Fax: 860/871-4054

(V) 9013-114

(E) douglas.zehner@ct.usda.gov

DE—Russell Morgan

1221 College Park Drive, Suite 100

Dover, Delaware 19904-8713

Phone: 302/678-4160

Fax: 302/678-0843

(V) 9060-199

(E) russell.morgan@de.usda.gov

FL—Carlos Suarez

2614 NW. 43rd Street

Gainesville, Florida 32606-6611 or

P.O. Box 141510, Gainesville, FL 32614

Phone: 352/338-9500

Fax: 352/338-9574

(V) 9012-3501

(E) carlos.suarez@fl.usda.gov

GA—James Tillman

Federal Building, Stop 200

355 East Hancock Avenue

Athens, Georgia 30601-2769

Phone: 706/546-2272

Fax: 706/546-2120

(V) 9021-2082

(E) james.tillman@ga.usda.gov

GU—Lawrence T. Yamamoto

Director, Pacific Basin Area

FHB Building, Suite 301

400 Route 8

Mongmong, Guam 96910

Phone: 671/472-7490

Fax: 671/472-7288

(V) 9000-822-1265

(E) larry.yamamoto@pb.usda.gov

HI—Lawrence T. Yamamoto

300 Ala Moana Blvd., Room 4-118

P.O. Box 50004

Honolulu, Hawaii 96850-0002

Phone: 808/541-2600 x107

Fax: 808/541-1335

(V) 9042-108

(E) larry.yamamoto@hi.nrcs.usda.gov

ID—Jeffrey B. Burwell

9173 West Barnes Drive

Suite C

Boise, Idaho 83709

Phone: 208/378-5700

Fax: 208/378-5735

(V) 9000-291-4551

(E) jeffrey.burwell@id.usda.gov

IL—William J. Gradle

2118 W. Park Court

Champaign, Illinois 61821

Phone: 217/353-6601

Fax: 217/353-6676

(V) 9057-6601

(E) bill.gradle@il.usda.gov

IN—Jane E. Hardisty

6013 Lakeside Blvd.

Indianapolis, Indiana 46278-2933

Phone: 317/290-3200

Fax: 317/290-3225

(V) 9029-301

(E) jane.hardisty@in.usda.gov

IA—Richard Sims

693 Federal Building

210 Walnut Street, Suite 693

Des Moines, Iowa 50309-2180

Phone: 515/284-6655

Fax: 515/284-4394

(V) 9000-945-1065

(E) richard.sims@ia.usda.gov

KS—Kasey Taylor, Acting

Eric B. Banks

760 South Broadway

Salina, Kansas 67401-4642

Phone: 785/823-4565

Fax: 785/452-3369

(V) 9000-345-8770

(E) eric.banks@ks.usda.gov

KY—Tom Perrin

771 Corporate Drive

Suite 110

Lexington, Kentucky 40503-5479

Phone: 859/224-7350

Fax: 859/224-7399

(V) 9032-7390

(E) tom.perrin@ky.usda.gov

LA—Kevin D. Norton

3737 Government Street

Alexandria, Louisiana 71302

Phone: 318/473-7751

Fax: 318/473-7626

(V) 9000-965-1635

(E) kevin.norton@la.usda.gov

ME—Juan Hernandez

967 Illinois Avenue

Suite #3

Bangor, Maine 04401

Phone: 207/990-9100, ext. #3

Fax: 207/990-9599

(V) 9000-757-1028

(E) juan.hernandez@me.usda.gov

MD—Jon F. Hall

John Hanson Business Center

339 Busch's Frontage Road, Suite 301

Annapolis, Maryland 21401-5534

Phone: 410/757-0861 x315

Fax: 410/757-0687

(V) 9053-315

(E) jon.hall@md.usda.gov

MA—Christine Clarke

451 West Street

Amherst, Massachusetts 01002-2995

Phone: 413/253-4351

Fax: 413/253-4375

(V) 9047-4352

(E) Christine.clarke@ma.usda.gov

MI—Salvador Salinas, Acting

Garry D. Lee

3001 Coolidge Road, Suite 250

East Lansing, Michigan 48823-6350

Phone: 517/324-5270

Fax: 517/324-5171

(V) 9048-5277

(E) garry.lee@mi.usda.gov

MN—Jennifer Heglund, Acting

375 Jackson Street

Suite 600

St. Paul, Minnesota 55101-1854

Phone: 651/602-7900

Fax: 651/602-7913 or 7914

(V) 9041-7854

(E) Jennifer.heglund@mn.usda.gov

MS—Homer Wilkes

Suite 1321, Federal Building

100 West Capitol Street

Jackson, Mississippi 39269-1399

Phone: 601/965-5205

Fax: 601/965-4940

(V) 9000-965-2065

(E) homer.wilkes@ms.nrcs.usda.gov

MO—J.R. Flores

Parkade Center, Suite 250

601 Business Loop 70 West

Columbia, Missouri 65203-2546

Phone: 573/876-0901

Fax: 573/876-9439

(V) 9034-1367

(E) jr.flores@mo.usda.gov

MT—Joyce Swartzendruber

Federal Building, Room 443

10 East Babcock Street

Bozeman, Montana 59715-4704

Phone: 406/587-6813

Fax: 406/587-6761

(V) 9056-6813

(E) joyce.swartzendruber@mt.usda.gov

NE—Stephen K. Chick

Federal Building, Room 152

100 Centennial Mall, North

Lincoln, Nebraska 68508-3866

Phone: 402/437-5300

Fax: 402/437-5327

(V) 9026-4103

(E) steve.chick@ne.usda.gov

NV—Bruce Petersen

5301 Longley Lane

Building F, Suite 201

Reno, Nevada 89511-1805

Phone: 775/857-8500

Fax: 775/857-8524

(V) 9000-784-1390

(E) bruce.petersen@nv.usda.gov

NH—George Cleek

Federal Building

2 Madbury Road

Durham, New Hampshire 03824-2043

Phone: 603/868-7581 ext. 125

Fax: 603/868-5301

(V) 9000-868-8035

(E) george.cleek@nh.usda.gov

NJ—Thomas Drewes

220 Davidson Avenue

Somerset, New Jersey 08873

Phone: 732/537-6040

Fax: 732/537-6095

(V) 9000-767-1000

(E) tom.drewes@nj.usda.gov

NM—Dennis L. Alexander

6200 Jefferson Street, NE.

Suite 305

Albuquerque, New Mexico 87109-3734

Phone: 505/761-4402 (Rita)

Fax: 505/761-4481

(V) 9016-4401

(E) dennis.alexander@nm.usda.gov

NY—Astor Boozer

441 South Salina Street

Suite 354

Syracuse, New York 13202-2450

Phone: 315/477-6504

Fax: 315/477-6550

(V) 9015-6501

(E) astor.boozer@ny.usda.gov

NC—J.B. Martin, Acting

4405 Bland Road, Suite 205

Raleigh, North Carolina 27609-6293

Phone: 919/873-2102

Fax: 919/873-2156

(V) 9025-2101

(E) JB.martin@nc.usda.gov

ND—Paul Sweeney

220 E. Rosser Avenue, Room 278

P.O. Box 1458

Bismarck, North Dakota 58502-1458

Phone: 701/530-2000

Fax: 701/530-2110

(V) 9051-2003

(E) paul.sweeney@nd.usda.gov

OH—Terry J. Cosby

200 North High Street, Room 522

Columbus, Ohio 43215-2478

Phone: 614/255-2472

Fax: 614/255-2548

(V) 9000-881-1870

(E) terry.cosby@oh.usda.gov

OK—Ronald L. Hilliard

100 USDA, Suite 206

Stillwater, Oklahoma 74074-2655

Phone: 405/742-1204

Fax: 405/742-1126

(V) 9037-1280

(E) ron.hillard@ok.usda.gov

OR—Ron Alvarado

101 SW Main Street

Suite 1300

Portland, Oregon 97204-3221

Phone: 503/414-3200

Fax: 503/414-3103

(V) 9019-3201

(E) ron.alvarado@or.usda.gov

PA—Dave Brown, Acting

1 Credit Union Place, Suite 340

Harrisburg, Pennsylvania 17110-2993

Phone: 717/237-2203

Fax: 717/237-2238

(V) 9039-2203

(E) dave.brown@pa.usda.gov

PR—Angel Figueroa, Acting

Director, Caribbean Area

IBM Building, Suite 604

654 Munoz Rivera Avenue

Hato Rey, Puerto Rico 00918-4123

Phone: 787/766-5206, ext. 237

Fax: 787/766-5987

(V) 9000-769-1030

(E) angel.figueroa@wdc.usda.gov

RI—Richard “Pooh” Vongkhamdy

60 Quaker Lane, Suite 46

Warwick, Rhode Island 02886-0111

Phone: 401/828-1300

Fax: 401/828-0433

(V) 9023-115

(E) pooh.vongkhamdy@ri.usda.gov

SC—Keisha Brown, Acting

Strom Thurmond Federal Building

1835 Assembly Street, Room 950

Columbia, South Carolina 29201-2489

Phone: 803/253-3935

Fax: 803/253-3670

(V) 9031-3940

(E) Keisha.brown@sc.usda.gov

SD—Janet L. Oertly

Federal Building, Room 203

200 Fourth Street, S.W.

Huron, South Dakota 57350-2475

Phone: 605/352-1200

Fax: 605/352-1288

(V) 9036-1201

(E) janet.oertly@sd.usda.gov

TN—Kevin Brown

675 U.S. Courthouse

801 Broadway

Nashville, Tennessee 37203-3878

Phone: 615/277-2531

Fax: 615/277-2578

(V) 9058-2530

(E) kevin.brown@tn.usda.gov

TX—Donald W. Gohmert

W.R. Poage Federal Building

101 South Main Street

Temple, Texas 76501-7602

Phone: 254/742-9800

Fax: 254/742-9819

(V) 9038-9803

(E) don.gohmert@tx.usda.gov

UT—Sylvia A. Gillen

W.F. Bennett Federal Building

125 South State Street, Room 4402

Salt Lake City, Utah 84111

Phone: 801/524-4555

Fax: 801/524-4403

(V) 9000-625-1550

(E) sylvia.gillen@ut.usda.gov

VT—Judith M. Doerner

356 Mountain View Drive, Suite 105

Colchester, Vermont 05446

Phone: 802/951-6795

Fax: 802/951-6327

(V) 9000-768-1240

(E) judy.doerner@vt.usda.gov

VA—Vicky Drew, Acting

Jack Bricker

Culpeper Building, Suite 209

1606 Santa Rosa Road

Richmond, Virginia 23229-5014

Phone: 804/287-1691

Fax: 804/287-1737

(V) 9003-1682

(E) jack.bricker@va.usda.gov

WA—Roylene Rides at the Door

Rock Pointe Tower II

W. 316 Boone Avenue, Suite 450

Spokane, Washington 99201-2348

Phone: 509/323-2900

Fax: 509/323-2909

(V) 9035-2901

(E) door@wa.usda.gov

WV—Kevin Wickey

75 High Street, Room 301

Morgantown, West Virginia 26505

Phone: 304/284-7540

Fax: 304/284-4839

(V) 9049-7542

(E) kevin.wickey@wv.usda.gov

WI—Ivan Dozier, Acting

Patricia Leavenworth

8030 Excelsior Drive, Suite 200

Madison, Wisconsin 53717

Phone: 608/662-4422

Fax: 608/662-4430

(V) 9018-222

(E) pat.leavenworth@wi.usda.gov

WY—J. Xavier Montoya

Federal Building, Room 3124

100 East B Street

Casper, Wyoming 82601-1911

Phone: 307/233-6750

Fax: 307/233-6753

(V) 9000-951-1015

(E) Xavier.montoya@wy.usda.gov

[FR Doc. 2010-8143 Filed 4-8-10; 8:45 am]

BILLING CODE 3410-16-P